DEPARTMENT OF JUSTICE

Antitrust Division

Notice Pursuant to the National Cooperative Research and Production Act of 1993—Medical CBRN Defense Consortium

Notice is hereby given that, on August 3, 2018, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances.

Specifically, Novici Biotech LLC, Vacaville, CA; GigaGen Inc., San Francisco, CA; Vanderbilt University Medical Center, Nashville, TN; Public Health Vaccines, LLC, Cambridge, MA; Kaleo, Inc., Richmond, VA; Sequoia Consulting Group, LLC, Solana Beach, CA; Inflammatix Inc., Burlingame, CA; Nano Terra, Inc., Cambridge, MA; Tech62, Fairfax, VA; Universal Stabilization Technologies, Inc., San Diego, CA; Southern Research Institute, Birmingham, AL; Adapt Pharma, Inc., Radnor, PA; Talis Biomedical Corporation, Chicago, IL; University of Maryland, College Park, MD; Inovio Pharmaceuticals, Plymouth Meeting, PA; Spectral Platforms, Monrovia, CA; BDO USA LLP, Mclean, VA; PharmaJet, Golden, CO; Consegna Pharma Inc., Pittsburgh, PA; and Tiba Biotech LLC, Cambridge, MA, have been added as parties to this venture.

Also, MaxCyte, Inc., Gaithersburg, MD; Shield Analysis Technology, LLC, Manassas, VA; Kineta, Inc., Seattle, WA; and Pertaton (previously Harris Corp), Herndon, VA, have withdrawn as parties to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on May 14, 2018. A notice was published in the Federal Register pursuant to Section 6(b) of the Act on June 19, 2018 (83 FR 28446).

Suzanne Morris,
Chief, Premerger and Division Statistics Unit Antitrust Division.

[FR Doc. 2018-18301 Filed 8-23-18; 8:45 am]

BILLING CODE 4410-11-P